DEPARTMENT OF LABOR

Employment and Training Administration

[TA-W-59,290]

Allegheny Color Corp./Apollo Colors, Inc.; Ridgway, PA; Notice of Termination of Investigation

Pursuant to Section 221 of the Trade Act of 1974, as amended, an investigation was initiated on April 28, 2006 in response to a worker petition filed by a company official on behalf of workers of Allegheny Color Corp./Apollo Colors, Inc., Ridgway, Pennsylvania.

The petitioning group of workers is covered by an active certification, (TA-W-58,754) which expires on March 30, 2008. Consequently, further investigation in this case would serve no purpose, and the investigation has been terminated.

Signed at Washington, DC this 4th day of May, 2006.
Linda G. Poole,
Certifying Officer, Division of Trade Adjustment Assistance.

[FR Doc. E6-7515 Filed 5-16-06; 8:45 am]

BILLING CODE 4510-30-P